ENVIRONMENTAL PROTECTION AGENCY

[ER-FRL-6628-8]

Environmental Impact Statements; Notice of Availability

Responsible Agency: Office of Federal Activities, General Information (202) 564-7167 or www.epa.gov/oeca/ofa.

Weekly receipt of Environmental Impact Statements

Filed April 22, 2002 Through April 26, 2002

Pursuant to 40 CFR 1506.9.

EIS No. 020158, Draft Supplement, FRC, WA, Rocky Creek Hydroelectric Project, (FERC No. 10311-002) Construction and Operation 8.3-megawatt (mw) Project, Application for License, Rocky Creek, Skagit County, WA, Comment Period Ends: June 17, 2002, Contact: Dianne Rodman (202) 219-2830. This document is available on the Internet at: http://rimsweb1.ferc.gov/rims. q?rp2getImagePages~1845215~ 44~912~1~50

EIS No. 020159, Final EIS, AFS, OR, Five Rivers Watershed Landscape Management Project, To Restore Terrestrial and Aquatic Habitat, Special-Use-Permit, Siuslaw National Forest, Waldport Ranger District, Lincoln and Lane Counties, OR, Wait Period Ends: June 3, 2002, Contact: Doris Tai (541) 563-3211. This document is available on the Internet at: [http://www.fs.fed.us/r6/siuslaw /5rivers/contents.htm].

EIS No. 020160, Draft EIS, TVA, AL, MS, AL, TN, Pickwick Reservoir Land Management Plan (Plan), Proposes to use The Plan To Guide Land-Use Approvals, Private Water Use Facility Permitting and Resource Management Decision, Colbert and Lauderdale Counties, AL and Tishomingo County, MS and Hardin County, TN, Comment Period Ends: June 17, 2002, Contact: Hardin M. Draper (865) 632-6889.

EIS No. 020161, Draft EIS, FRC, TN, NC, VA, Patriot Project, Construction and Operation of Mainline Expansion and Patriot Extension in Order to Transport 510.00 dekatherms per day (dth/day) of Natural Gas, TN, VA and NC, Comment Period Ends: June 17, 2002, Contact: Medha Kochhar (202) 208-2270. This document is available on the Internet at: (www.ferc.gov).

EIS No. 020162, Final Supplemental, COE, CA, American River Watershed Flood Plain Protection Project, Construction, Operation and Maintenance, Implementation, Sacramento, Placer and Sutter Counties, CA, Wait Period Ends: June 03, 2002, Contact: Veronica Petrovsky (916) 557-7245.

EIS No. 020163, Final EIS, COE, FL, Cape Sable Seaside Sparrow Protection, Interim Operating Plan (IOP), Alternative 7R Final Recommend Plan, Emergency Sparrow Protection Actions, Implementation, Everglass National Park, Miami-Dade County, FL, Wait Period Ends: June 3, 2002, Contact: Jon Moulding (904) 232-2286.

EIS No. 020164, Final EIS, COE, PROGRAMMATIC—Mississippi River and Tributaries Morganza, Louisiana to the Gulf of Mexico Hurricane Protection Plan, Flood Damage Reduction from Tropical Storms and Hurricane Induced Tidal Flooding along Louisiana to the Gulf of Mexico, Wait Period Ends: June 3, 2002, Contact: Nathan Dayan (504) 862-2582.

EIS No. 020165, Final EIS, AFS, IL, Midewin National Tallgrass, Proposed Land and Resource Management Plan, Implementation, Prairie Plan Development, Will County, IL , Wait Period Ends: June 3, 2002, Contact: Renee Thakali (815) 423-6370.

EIS No. 020166, Final EIS, COE, AR, Greers Ferry Lake Shoreline Management Plan (SMP), Implementing Revision to Replace the 1994 Shore Management Plan, Revision include Zoning of Limited Development Areas, Vegetation Modification Provisions for Grandfathered Docks and Restrictions on Boats, Van Buren, Cleburne, Searcy Stone, White, Independence and Pope Counties, AR, Wait Period Ends: June 14, 2002, Contact: Patricia Anslow (501) 324-5032.

EIS No. 020167, Final EIS, FTA, PA, North Shore Connector, Extending existing Light Rail Transit (LRT) System from Golden Triangle of downtown Pittsburgh to the North Shore, Funding, USCG Bridge Permit, NPDES Permit, and COE Section 10 and 404 Permits, Allegheny County, PA , Wait Period Ends: June 3, 2002, Contact: Florence Bicchetti (215) 656-7100.

This document is available on the Internet at: www.RideGold.com.

EIS No. 020168, Draft Supplemental, AFS, WV, VA, American Electric Power (AEP) 765kV Transmission Line, To Construct, Operate and Maintain Permit Application for Authorization to Cross Federal Land, Right-of-Way Permit, George Washington and Jefferson National Forests, Jackson Ferry, Virginia to Oceana, West Virginia, Comment Period Ends: July 26, 2002, Contact: Ken Landgraf (540) 265-5170.

Amended Notices

EIS No. 020017, Draft EIS, BLM, WY, Powder River Basin Oil and Gas Project, To Extract, Transport, and Sell Oil and Natural Gas Resource, Application of Permit to Drill (APD), Special Use Permit and Right-of-Way Grant, Campbell, Converse, Johnson and Sheridan Counties, WY, Comment Period Ends: May 15, 2002, Contact: Paul Beels (307) 684-1100.

Revision of FR Notice Published on 03/01/2002: CEQ Comment Period Ending 04/17/2002 has been extended to 05/15/2002.

Dated: April 30, 2002.
B. Katherine Biggs,
Associate Director, NEPA Compliance Division, Office of Federal Activities.

[FR Doc. 02-11044 Filed 5-2-02; 8:45 am]

BILLING CODE 6560-50-U